ENVIRONMENTAL PROTECTION AGENCY

40 CFR Parts 9 and 721

[EPA-HQ-OPPT-2018-0567; FRL-9983-14]

RIN 2070-AB27

Significant New Use Rules on Certain Chemical Substances

Correction

In rule document 2018-19950, appearing on pages 47004 through 47025, in the issue of Monday, September 17, 2018, make the following correction:

§ 9.1, §§ 721.11124-11125, §§ 721.11130-11140 [Corrected]

In the regulatory text for Part 9 and Part 721, beginning on page 47017, remove “14;” and where it appears after the section mark symbol (§ ) in amendatory paragraph instructions 2, 4, 5, and 10-20.

[FR Doc. C1-2018-19950 Filed 9-28-18; 8:45 am]

BILLING CODE 1301-00-D